DEPARTMENT OF AGRICULTURE

U.S. Codex Office

Codex Alimentarius Commission: Meeting of the Codex Committee on Processed Fruits and Vegetables

AGENCY: U.S. Codex Office, USDA.

ACTION: Notice of public meeting and request for comments.

SUMMARY: The U.S. Codex Office is sponsoring a public meeting on May 5, 2020. The objective of the public meeting is to provide information and receive public comments on agenda items and corresponding United States (U.S.) positions discussed at the 29th Session of the Codex Committee on Processed Fruits and Vegetables (CCPFV29), which is working by correspondence in preparation for U.S. participation in the Codex Alimentarius Commission. The U.S. Manager for Codex Alimentarius and the Under Secretary, Office of Trade and Foreign Agricultural Affairs, recognize the importance of providing interested parties the opportunity to obtain background information on the 29th Session of the CCPFV and to address items on the agenda.

DATES: The public meeting is scheduled for May 5, 2020 from 2:00 p.m. to 3:30 p.m. EST.

ADDRESSES: If you wish to participate in the public meeting for the 40th Session of the CCPFV, the meeting will be conducted by conference call only to be consistent with public health guidance related to outbreaks of novel coronavirus (COVID19). Documents related to the 29th Session of the CCPFV will be accessible via the internet at the following address: http://www.codexalimentarius.org/meetings-reports/en. Dorian LaFond, U.S. Delegate to the 29th Session of the CCPFV, invites U.S. interested parties to submit their comments electronically to the following email address: Doreen.chenmoulec@usda.gov.

Call In Number: Please use the call-in-number: 1-888-844-9904 and participant code: 512 6092. Please register in advance by emailing Doreen.chenmoulec@usda.gov.

Registration: Attendees may register to participate in the public meeting as described above.

For further information about the session of CCPFV, contact Dorian LaFond, Agricultural Marketing Service, Fruits and Vegetables Division, Mail Stop 0235, Room 2086, South Agriculture Building, 1400 Independence Avenue SW, Washington, DC 20250-0235, Telephone: (202) 690-4944, Fax: (202) 720-0016, Email: Dorian.Lafond@usda.gov and Doreen.chenmoulec@usda.gov.

FOR FURTHER INFORMATION CONTACT: U.S. Codex Office, 1400 Independence Avenue SW, Room 4867, South Building, Washington, DC 20250. Phone: (202) 205-7760, Fax: (202) 720-3157, Email: uscodex@usda.gov.

SUPPLEMENTARY INFORMATION:

Background

Codex was established in 1963 by two United Nations organizations, the Food and Agriculture Organization (FAO) and the World Health Organization (WHO). Through adoption of food standards, codes of practice, and other guidelines developed by its committees, and by promoting their adoption and implementation by governments, Codex seeks to protect the health of consumers and ensure fair practices in the food trade.

The CCPFV is responsible for elaborating worldwide standards and related texts for all types of processed fruits and vegetables including, but not limited to, canned, dried, and frozen products, as well as fruit and vegetable juices and nectars.

The Committee is hosted by the United States.

Issues To Be Discussed at the Public Meeting

The following items from the Agenda for the 29th Session of the CCPFV will be discussed during the public meeting:

• Matters Referred to the Committee by the Codex Alimentarius Commission and Codex Committees

• Conversion of the Regional Standard for Gochujang to a Worldwide Standard

• Conversion of the Regional Standard for Chili Sauce to a Worldwide Standard

• Proposed revision to the Standard for Mango Chutney

• Proposed draft General Standard for Dried Fruits

• Proposed draft General Standard for Canned Fruit Salads

• Matters referred from the Codex Committee on Food Additives (49th and 50th Sessions)

• Matters referred from (Codex Committee on Methods and Analysis and Sampling 38th Session)

• Other Business

• Future work and work method of CCPFV

Each issue listed will be fully described in documents distributed, or to be distributed by the Secretariat before the Committee meeting. Members of the public may access or request copies of these documents (see ADDRESSES).

Public Meeting

At the May 5th, 2020, public meeting, U.S. positions on the agenda items will be described and discussed, and attendees will have the opportunity to pose questions and offer comments. Written comments may be offered at the meeting or sent to Dorian LaFond and the U.S. Codex office.

Additional Public Notification

Public awareness of all segments of rulemaking and policy development is important. Consequently, the U.S. Codex Office will announce this Federal Register publication on-line through the USDA Codex web page located at: http://www.usda.gov/codex, a link that also offers an email subscription service providing access to information related to Codex. Customers can add or delete their subscriptions themselves and have the option to password protect their accounts.

USDA Non-Discrimination Statement

No agency, officer, or employee of the USDA shall, on the grounds of race, color, national origin, religion, sex, gender identity, sexual orientation, disability, age, marital status, family/parental status, income derived from a public assistance program, or political beliefs, exclude from participation in, deny the benefits of, or subject to discrimination any person in the United States under any program or activity conducted by the USDA.

How To File a Complaint of Discrimination

To file a complaint of discrimination, complete the USDA Program Discrimination Complaint Form, which may be accessed online at http://www.ocio.usda.gov/sites/default/files/docs/2012/Complain_combined_6_8_12.pdf, or write a letter signed by you or your authorized representative. Send your completed complaint form or letter to USDA by mail, fax, or email.

Mail: U.S. Department of Agriculture, Director, Office of Adjudication, 1400 Independence Avenue SW, Washington, DC 20250-9410.

Fax: (202) 690-7442, Email: program.intake@usda.gov.

Persons with disabilities who require alternative means for communication (Braille, large print, audiotape, etc.) should contact USDA's TARGET Center at (202) 720-2600 (voice and TDD).

Done at Washington, DC, on April 6, 2020.
Mary Lowe,
U.S. Manager for Codex Alimentarius.

[FR Doc. 2020-07538 Filed 4-9-20; 8:45 am]

BILLING CODE P